DEPARTMENT OF THE INTERIOR

Bureau of Land Management

[LLCAD08000.L12100000.MD0000.15XL1109AF WBS: LXSSB0010000]

Reopening of the Public Comment Period and Two Additional Public Meetings for the Draft Supplemental Environmental Impact Statement and Draft Plan Amendment, California Desert Conservation Area Plan, West Mojave Planning Area, Inyo, Kern, Los Angeles and San Bernardino Counties

AGENCY: Bureau of Land Management, Interior.

ACTION: Notice.

SUMMARY: On March 6, 2015, the Department of Interior, Bureau of Land Management (BLM), published in the Federal Register a notice of availability for comment on a Draft Land Use Plan Amendment (LUPA) and Draft Supplemental Environmental Impact Statement (EIS) for the West Mojave Route Network Project (WMRNP) for the West Mojave (WEMO) Planning Area of the California Desert Conservation Area (CDCA), to amend the Motor Vehicle, Recreation, and Grazing Elements of the CDCA Plan and to designate a transportation network within the planning area. Comments were requested by June 4, 2015. The BLM is reopening the public comment period for the draft LUPA and draft supplemental EIS for an additional 120 days.

DATES: Written comments must be received on or before January 25, 2016. Two public meetings will be scheduled. Notice of the meetings will be provided on the BLM Web site (see ADDRESSES) and in local papers at least 15 days prior to the date of the meetings.

ADDRESSES: Submit your comments, identified by WMRNP in the subject line, by one of the following methods:

• Email: cawemopa@blm.gov.

• Web site: http://www.blm.gov/ca/st/en/fo/cdd/west_mojave_wemo.

• Fax: 951-697-5299.

• Mail: BLM California Desert District Office, 22835 Calle San Juan de Los Lagos, ATTN: West Mojave Route Network Project, Moreno Valley, CA 92553-9046.

FOR FURTHER INFORMATION CONTACT: Edythe Seehafer, telephone 760-252-6021; address: Bureau of Land Management, Barstow Field Office, 2601 Barstow Road, Barstow, CA 92311; email cawemopa@blm.gov. Documents relevant to this notice may be examined at the California Desert District Office and associated Field Offices in Barstow, Ridgecrest, Needles, Palm Springs, and El Centro, at the Web site (see ADDRESSES), or the BLM's California State Office, 2800 Cottage Way, Sacramento, CA 95825.

Persons who use a telecommunications device for the deaf (TDD) may call the Federal Information Relay Service (FIRS) at 1 (800)877-8339 to contact the above individual during normal business hours. The FIRS is available 24 hours a day, 7 days a week, to leave a message or question with the above individual. You will receive a reply during normal business hours.

SUPPLEMENTARY INFORMATION: On March 6, 2015, the BLM published in the Federal Register a notice of availability for comment of a draft LUPA and draft supplemental EIS for the WMRNP (80 FR 12194). In the original notice, the BLM requested comments by June 4, 2015. The BLM is reopening the public comment period in response to requests by the public and to allow for public consideration of new information on reasonably foreseeable actions as identified in the Desert Renewable Energy Conservation Plan (DRECP) as it relates to the WMRNP.

Concurrent with the WMRNP planning effort, the BLM is proposing CDCA LUPA alternatives in the DRECP that include, among other proposals, special area designations and associated management parameters, and which comprise new information that may be considered in the identification of alternatives and the analysis of impacts in the WMRNP. The BLM is considering whether to adjust or add additional alternatives to the WMRNP in response to the proposals in the DRECP. All previously submitted comments will be considered; comments submitted during the initial WMRNP comment period need not be resubmitted.

Information and environmental documents on the DRECP are available for review at http://www.blm.gov/ca/st/en/prog/energy/DRECP.html.

Before including your address, phone number, email address, or other personal identifying information in your comment, you should be aware that your entire comment—including your personal identifying information—may be made publicly available at any time. While you can ask us in your comment to withhold your personal identifying information from public review, we cannot guarantee that we will be able to do so.

Authority: 40 CFR 1501.7, 40 CFR 1506.6, 40 CFR 1506.10, 43 CFR 1610.2

Thomas Pogacnik,
Deputy State Director.

[FR Doc. 2015-24437 Filed 9-24-15; 8:45 am]

BILLING CODE 4310-40-P